DEPARTMENT OF ENERGY

Federal Energy Regulatory Commission

[Project No. 2474-004 New York]

Erie Boulevard Hydropower L.P.; Notice Extending Time To Comment on Draft Environmental Assessment

January 12, 2000.

The Federal Energy Regulatory Commission issued a Draft Environmental Assessment (DEA) on November 24, 1999, considering issuance of a new license for the Oswego River Hydroelectric Project, located on the Oswego River in Oswego County, New York, in accordance with the National Environmental Policy Act of 1969 and the Federal Energy Regulatory Commission's (Commission's) regulations, 18 CFR Part 380 (Order No. 486, 52 FR 47897). In the DEA, the Commission's staff has analyzed the potential environmental impacts of the existing project and has concluded that approval of the project, with appropriate environmental protection measures, would not constitute a major federal actions significantly affecting the quality of the human environment.

The Commission requested comments on the DEA within 45 days, or by January 8, 2000. Erie Boulevard Hydropower L.P., in its December 27, 1999 letter, requested an extension of time to complete its review of the DEA. In consideration of the holidays which fell during the review period, I am extending the DEA comment period until January 31, 2000.

Copies of the DEA will remain available for review in the Public Reference Branch, Room 2-A, of the Commission's offices at 888 First Street, NE, Washington, DC 20426.

Anyone wishing to comment in writing on the DEA must do so no later than January 31, 2000. Comments should be addressed to: David P. Boergers, Secretary, Federal Energy Regulatory Commission, 888 First Street, NE, Washington, DC 20426. Please affix on the first page the caption “Oswego River Project No. 2474-004” to all comments and letters.

For further information, please contact Charles T. Raabe at (202) 219-2811.

Linwood A. Watson, Jr.,
Acting Secretary.

[FR Doc. 00-1180 Files 1-18-00; 8:45 am]

BILLING CODE 6717-01-M